DEPARTMENT OF COMMERCE

National Oceanic and Atmospheric Administration

50 CFR Part 622

[I.D. 030105D]

RIN 0648-AS53

Fisheries of the Caribbean, Gulf of Mexico, and South Atlantic; Coastal Migratory Pelagic Resources of the Gulf of Mexico and Atlantic; Amendment 15

AGENCY: National Marine Fisheries Service (NMFS), National Oceanic and Atmospheric Administration (NOAA), Commerce.

ACTION: Notice of availability of Amendment 15 to the Fishery Management Plan for the Coastal Migratory Pelagic Resources of the Gulf of Mexico and Atlantic (FMP); request for comments.

SUMMARY: NMFS announces that the Gulf of Mexico and South Atlantic Fishery Management Councils (Councils) have submitted Amendment 15 to the FMP for review, approval, and implementation by NMFS. Amendment 15 would establish a limited access system for the commercial fishery for Gulf and Atlantic group king mackerel, and change the fishing year for Atlantic migratory groups of king and Spanish mackerel to March 1 through February 28-29. The intended effect of Amendment 15 is to support the Council's efforts to achieve optimum yield in the fishery, and provide social and economic benefits associated with maintaining stability in the fishery.

DATES: Written comments must be received no later than 5 p.m., eastern time, on May 6, 2005.

ADDRESSES: You may submit comments by any of the following methods:

• E-mail: 0648-AS53.NOA@noaa.gov. Include in the subject line the following document identifier: 0648-AS53-NOA.

• Federal e-Rulemaking Portal: http://www.regulations.gov. Follow the instructions for submitting comments.

• Mail: Steve Branstetter, Southeast Regional Office, NMFS, 9721 Executive Center Drive N., St. Petersburg, FL 33702.

• Fax: From March 7, 2005 through March 17, 2005, 727-570-5583. From March 22, 2005 through May 6, 2005, 727-824-5308. Comments cannot be received via fax from March 18 through March 21, 2005.

Copies of Amendment 15, which includes an Environmental Assessment, a Regulatory Impact Review (RIR), and an Initial Regulatory Flexibility Analysis (IRFA), are available from the Gulf of Mexico Fishery Management Council, 3018 North U.S. Highway 301, Suite 1000, Tampa, FL 33619-2272; email: gulfcouncil@gulfcouncil.org; or from the South Atlantic Fishery Management Council, Southpark Building, One Southpark Circle, Suite 306, Charleston, SC 29407-4699; telephone: 843-571-4366; fax: 843-769-4520; e-mail: safmc@noaa.gov.

FOR FURTHER INFORMATION CONTACT: Dr. Steve Branstetter, 727-570-5305; fax 727-570-5583; e-mail: steve.branstetter@noaa.gov.

SUPPLEMENTARY INFORMATION: The fishery for coastal migratory pelagic fish (king mackerel, Spanish mackerel, cero, cobia, little tunny, and, in the Gulf of Mexico only, dolphin and bluefish) is managed under the FMP. The FMP was prepared by the Councils and is implemented under the authority of the Magnuson-Stevens Fishery Conservation and Management Act (Magnuson-Stevens Act) by regulations at 50 CFR part 622.

The Magnuson-Stevens Act requires each Regional Fishery Management Council to submit any fishery management plan or amendment to NMFS for review and approval, disapproval, or partial approval. The Magnuson-Stevens Act also requires that NMFS, upon receiving a plan or amendment, publish an announcement in the Federal Register notifying the public that the plan or amendment is available for review and comment.

Amendment 15, if implemented, would establish a limited access system for the commercial fishery for Gulf and Atlantic group king mackerel. A commercial king mackerel vessel permit moratorium was established by Amendment 8 to the FMP in March 1998, and Amendment 12 extended the expiration date of the moratorium through October 15, 2005, or until the moratorium could be replaced with a license limitation, limited access, and/or individual fishing quota (IFQ) or individual transferable quota (ITQ) system, whichever occurred earlier. The intended effect of the moratorium was to prevent increases in effort, to possibly reduce the number of permittees in the king mackerel fishery, and to stabilize the economic performance of current participants, while protecting king mackerel from overfishing. The existing restricted number of fishery participants, especially in the Gulf of Mexico, has demonstrated the capability of harvesting their total allowable catch (TAC) well in advance of the end of the various fishing seasons. Allowing the fishery to revert to open access would probably hasten these closures. The proposed limited access system would maintain the existing restricted access to the fishery for an indefinite period, with the intent to provide continued social and economic stability to the king mackerel fishery.

Amendment 15 contains a second action, which, if implemented, would change the fishing year for Atlantic migratory groups of king and Spanish mackerel to March 1 through February 28-29. The current fishing year for Atlantic migratory groups of both king and Spanish mackerel extends from April 1 through March 31. Under the existing fishing year, the commercial quota for Atlantic group king mackerel has only been met three times. However, should TAC need to be reduced in the future, there is a potential for the commercial quota to be met, and the fishery would be closed by the end of the season (i.e., in March). A March closure could adversely affect the social and economic stability of South Atlantic fisheries due to other commercial closures for alternative target species during that same month. For example, the red porgy fishery is closed January through April, and the gag and black grouper fishery is closed in March and April. By changing the opening date of the season to March 1, the Councils reduce the possibility of multiple commercial fishery closures at the same time.

A proposed rule that would implement measures outlined in Amendment 15 has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by May 6, 2005, whether specifically directed to the FMP or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: March 2, 2005.
Alan D. Risenhoover,
Acting Director, Office of Sustainable Fisheries, National Marine Fisheries Service.

[FR Doc. 05-4377 Filed 3-4-05; 8:45 am]

BILLING CODE 3510-22-S